DEPARTMENT OF TRANSPORTATION

National Highway Traffic Safety Administration

[Docket No. NHTSA-2005-23170; Notice 1]

Kumho Tire Co., Inc, Receipt of Petition for Decision of Inconsequential Noncompliance

Kumho Tire Co., Inc. (Kumho) has determined that certain tires that it produced in 2005 do not comply with S4.3.4 of 49 CFR 571.109, Federal Motor Vehicle Safety Standard (FMVSS) No. 109, “New pneumatic tires.” Kumho has filed an appropriate report pursuant to 49 CFR part 573, “Defect and Noncompliance Reports.”

Pursuant to 49 U.S.C. 30118(d) and 30120(h), Kumho has petitioned for an exemption from the notification and remedy requirements of 49 U.S.C. Chapter 301 on the basis that this noncompliance is inconsequential to motor vehicle safety.

This notice of receipt of Kumho's petition is published under 49 U.S.C. 30118 and 30120 and does not represent any agency decision or other exercise of judgment concerning the merits of the petition.

Affected are a total of approximately 197,147 temporary spare tires produced in February 2005. S4.3.4 of FMVSS No. 109 requires that each tire have permanently molded onto the sidewall the maximum inflation pressure in kPa followed in parentheses by the equivalent inflation pressure in psi, and the maximum load marking in kilograms followed in parentheses by the equivalent load rating in pounds. The affected tires have the maximum inflation pressure marking only in psi and not in kPa, and have reversed the maximum load markings so that the load rating in pounds is followed in parentheses by the equivalent load rating in kilograms.

Kumho believes that the noncompliance is inconsequential to motor vehicle safety and that no corrective action is warranted. Kumho states that the noncompliance “will have no impact on the operational performance or safety of vehicles on which the tires are used.” Kumho further states that the tires meet or exceed all FMVSS No. 109 performance requirements.

Interested persons are invited to submit written data, views, and arguments on this petition. Comments must refer to the docket and notice number cited at the beginning of this notice and be submitted by any of the following methods. Mail: Docket Management Facility, U.S. Department of Transportation, Nassif Building, Room PL-401, 400 Seventh Street, SW., Washington, DC, 20590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: Go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: January 9, 2006.

(Authority: 49 U.S.C. 30118, 30120, delegations of authority at CFR 1.50 and 501.8)

Issued on: December 5, 2005.
Daniel C. Smith,
Associate Administrator for Enforcement.

[FR Doc. E5-7122 Filed 12-8-05; 8:45 am]

BILLING CODE 4910-59-P